DEPARTMENT OF DEFENSE

Defense Acquisition Regulations System

[Docket DARS-2020-0047; OMB Control Number 0750-0003]

Information Collection Requirement; Defense Federal Acquisition Regulation Supplement; Requests for Reimbursement Under Section 3610 of the CARES Act

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through February 28, 2021. DoD proposes that OMB extend its approval for use for three additional years beyond the current expiration date.

DATES: DoD will consider all comments received by March 1, 2021.

ADDRESSES: You may submit comments, identified by OMB Control Number 0750-0003, using any of the following methods:

○ Federal eRulemaking Portal: https://www.regulations.gov. Follow the instructions for submitting comments.

○ Email: osd.dfars@mail.mil. Include OMB Control Number 0750-0003 in the subject line of the message.

○ Mail: Defense Acquisition Regulations System, Attn: Ms. Carrie Moore, OUSD(A&S)DPC/DARS, Room 3B938, 3060 Defense Pentagon, Washington, DC 20301-3060.

Comments received generally will be posted without change to https://www.regulations.gov, including any personal information provided.

FOR FURTHER INFORMATION CONTACT: Ms. Carrie Moore, 571-372-6093.

SUPPLEMENTARY INFORMATION:

Title and OMB Control Number: Defense Federal Acquisition Regulation Supplement (DFARS), Requests for Reimbursement under Section 3610 of the CARES Act; OMB Control Number 0750-0003.

Type of Request: Extension of a currently approved collection.

Obligation to Respond: Required to obtain or retain benefits.

Affected Public: Businesses or other for-profit and not-for-profit institutions.

Number of Respondents: 16,224.

Responses per Respondent: 1.5 approximately.

Annual Responses: 24,337.

Average Burden per Response: 63 hours approximately.

Annual Burden Hours: 1,523,053.

Reporting Frequency: On Occasion.

Needs and Uses: Section 3610 of the Coronavirus Aid, Relief and Economic Security (CARES) Act (Pub. L. 116-136), enacted on March 27, 2020, authorizes, but does not require, contracting officers to modify contracts and other agreements, without consideration, to reimburse contractors for paid leave a contractor provides to keep its employees or subcontractors in a ready state, including to protect the life and safety of Government and contractor personnel, during the public health emergency declared for Coronavirus Disease (COVID-19).

A contractor request for reimbursement under section 3610 must include sufficient documentation to support the request and enable the contracting officer to determine whether a contractor is eligible for reimbursement under section 3610 and, if so, the amount of reimbursement to provide to a contractor. Contractors' requests for reimbursement under section 3610 will vary in dollar amount and complexity; as such, so will the amount and type of information needed from a contractor to support their reimbursement request. Based on this variation, contracting officers will use one of three DoD reimbursement checklists to advise contractors of the information needed to support their request. The information described in the checklists is necessary to collect from contractors in order to ensure that contracting officers are able to determine whether to approve the request for reimbursement and expediently modify the affected contract(s) for the authorized reimbursement amount.

Section 3610 also requires that any reimbursements made under its authority are reduced by the amount of credit a contractor is allowed under other provisions of the CARES Act and division G of the Families First Coronavirus Response (FFRCA) (Pub. L. 116-127). As the status of such credits may not be known at the time of reimbursement, DFARS clause 252.243-7999, Section 3610 Reimbursement (Deviation 2020-O0021), requires contractors to notify the contracting officer of any credits received after receiving reimbursement under section 3610 and make any repayment, as necessary, to comply with the requirements of section 3610. This information is necessary so that contracting officers may comply with the provisions of section 3610.

Jennifer D. Johnson,
Regulatory Control Officer, Defense Acquisition Regulations System.

[FR Doc. 2020-28965 Filed 12-30-20; 8:45 am]

BILLING CODE 5001-06-P